DEPARTMENT OF COMMERCE

International Trade Administration

[C-570-175]

Certain Brake Drums From the People's Republic of China: Final Affirmative Countervailing Duy Determination

AGENCY: Enforcement and Compliance, International Trade Administration, Department of Commerce.

SUMMARY: The U.S. Department of Commerce (Commerce) determines that countervailable subsidies are being provided to producers and exporters of certain brake drums (brake drums) from the People's Republic of China (China). The period of investigation is January 1, 2023, through December 31, 2023.

DATES: Applicable June 18, 2025.

FOR FURTHER INFORMATION CONTACT: Nathan James or Olivia Woolverton, AD/CVD Operations, Office V, Enforcement and Compliance, International Trade Administration, U.S. Department of Commerce, 1401 Constitution Avenue NW, Washington, DC 20230; telephone: (202) 482-5305 or (202) 482-7452, respectively.

SUPPLEMENTARY INFORMATION:

Background

On December 3, 2024, Commerce published the Preliminary Determination in the Federal Register and invited interested parties to comment.¹ On February 21, 2025, Commerce received a letter from CAIEC Trailer Master Co., Ltd. (CAIEC) announcing its withdrawal from participation as a mandatory respondent in this investigation.² On April 1, 2025, Commerce issued a post-preliminary analysis.³

¹ See Certain Brake Drums from the People's Republic of China: Preliminary Affirmative Countervailing Duty Determination and Alignment of Final Determination with Final Antidumping Duty Determination, 89 FR 95744 (December 3, 2024) (Preliminary Determination), and accompanying Preliminary Decision Memorandum (PDM); see also Certain Brake Drums from the People's Republic of China: Preliminary Affirmative Countervailing Duty Determination and Alignment of Final Determination with Final Antidumping Duty Determination, 89 FR 100465 (December 12, 2024) (correcting the applicable date of the initial Federal Register notice).

² See CAIEC Trailer's Letter, “Caiec Trailer Withdrawal of Participation in the Investigation,” dated February 21, 2025.

³ See Memorandum, “Post-Preliminary Analysis in the Countervailing Duty Investigation of Certain Brake Drums from the People's Republic of China,” dated April 1, 2025.

For a complete description of the events that followed the Preliminary Determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Affirmative Determination in the Countervailing Duty Investigation of Certain Brake Drums from the People's Republic of China,” dated concurrently with, and herby adopted by, this notice (Issues and Decision Memorandum).

Scope of the Investigation

The products covered by this investigation are brake drums from China. For a complete description of the scope of this investigation, see Appendix I.

Scope Comments

During the course of this investigation, Commerce received scope comments from parties. Commerce issued a Preliminary Scope Decision Memorandum to address these comments and set aside a period of time for parties to address scope issues in scope-specific case and rebuttal briefs.⁵ We received comments from parties on the Preliminary Scope Decision Memorandum, which we address in the Final Scope Decision Memorandum.⁶ We have included additional Harmonized Tariff Schedule of the United States (HTSUS) subheadings in the scope of the investigation as compared with the scope published in the Preliminary Determination, as shown in Appendix I.

⁵ See Memorandum, “Antidumping Duty Investigations and Countervailing Duty Investigations of Certain Brake Drums from the People's Republic of China and the Republic of Türkiye: Preliminary Scope Decision Memorandum,” dated January 23, 2024 (Preliminary Scope Decision Memorandum).

⁶ See Memorandum, “Antidumping Duty and Countervailing Duty Investigations of Certain Brake Drums from the People's Republic of China and the Republic of Türkiye: Final Scope Decision Memorandum,” dated concurrently with this notice (Final Scope Decision Memorandum).

Verification

As provided in section 782(i) of the Tariff Act of 1930, as amended (the Act), in January 2025, Commerce verified the information reported by Shandong ConMet Mechanical, Ltd./Weifang ConMet Mechanical Products Co., Ltd. (collectively ConMet) ⁷ for use in our final determination. We used standard verification procedures, including an examination of relevant accounting records and original source documents provided at verification.⁸

⁷ Commerce found Shandong ConMet Mechanical, Ltd. and Weifang ConMet Mechanical Products Co., Ltd. to be cross-owned entities. See Preliminary Determination, 89 FR at 95746 n. 15.

⁸ See Memorandum, “Verification of Shandong ConMet Questionnaire Responses,” dated March 17, 2025.

Analysis of Subsidy Programs and Comments Received

The subsidy programs under investigation and the issues raised in the case and rebuttal briefs that were submitted by interested parties in this investigation, are discussed in the Issues and Decision Memorandum. For a list of the issues raised by interested parties and addressed in the Issues and Decision Memorandum, see Appendix II to this notice.

Methodology

Commerce conducted this investigation in accordance with section 701 of the Act. For each of the subsidy programs found to be countervailable, Commerce determines that there is a subsidy, i.e., a financial contribution by an “authority” that gives rise to a benefit to the recipient, and that the subsidy is specific.⁹ For a full description of the methodology underlying our final determination, see the Issues and Decision Memorandum.

⁹ See sections 771(5)(B) and (D) of the Act regarding financial contribution; section 771(5)(E) of the Act regarding benefit; and section 771(5A) of the Act regarding specificity.

In making this final determination, Commerce relied, in part, on facts otherwise available, including with an adverse inference, pursuant to sections 776(a) and (b) of the Act. For a full discussion of our application of adverse facts available (AFA), see the Preliminary Determination ¹⁰ and the Issues and Decision Memorandum at the section entitled “Use of Facts Otherwise Available and Application of Adverse Inferences.”

¹⁰ See Preliminary Determination PDM at 5-24.

Changes Since the Preliminary Determination and Post-Preliminary Analysis

We have modified our calculation of the subsidy rate for ConMet based on comments received from interested parties and our verification procedures. Additionally, based on CAIEC's withdrawal from the investigation, we relied on AFA, based on section 776 of the Act, to calculate the subsidy rate for CAIEC. Furthermore, we revised the AFA rate to reflect changes to the mandatory respondents' rates to include the three programs countervailed in the Post-Preliminary Analysis and to correct certain plug rates selected under Commerce's AFA hierarchy.¹¹ For a discussion of these changes, see the Issues and Decision Memorandum.

¹¹ See Issues and Decision Memorandum at Appendix.

All-Others Rate

Pursuant to section 705(c)(5)(A)(i) of the Act, Commerce will determine an all-others rate equal to the weighted-average countervailable subsidy rates established for exporters and/or producers individually examined, excluding any rates that are zero, de minimis, or based entirely under section 776 of the Act. In this investigation, Commerce calculated an individual estimated countervailable subsidy rate for ConMet. Because the only individually calculated rate that is not zero, de minimis, or based entirely on facts otherwise available, is the estimated countervailable subsidy rate calculated for ConMet, ConMet's rate is the rate assigned to all other producers and exporters.

Final Determination

Commerce determines that the following estimated countervailable subsidy rates exist:

Company | Subsidy rate (percent ad valorem)
CAIEC Trailer Master Co., Ltd./Trailer Master CVS Inc ¹² | * 446.83
Shandong ConMet Mechanical, Ltd./Weifang ConMet Mechanical Products Co., Ltd | 11.94
Guangzhou Joyhand Import & Export Co | * 446.83
Hebei Iruijin Auto Parts Co., Ltd | * 446.83
Henan Broad Top Metal Work, Llc | * 446.83
Henan Valiant Braking System Co | * 446.83
HTS (Tianjin) Supply Chain Co., Ltd | * 446.83
Panasia CVS (HK), Ltd | * 446.83
Raw King Brake Parts Co., Ltd | * 446.83
Tianjin Textile Group Import and Export Inc | * 446.83
Xiamen Tinmy Industrial Co., Ltd | * 446.83
Xingtai Xunchiyoute Auto Parts Co | * 446.83
Yancheng Terbon Auto Parts Co | * 446.83
Yantai Hongtian Autoparts Co., Ltd | * 446.83
Zhejiang Firsd Group Co., Ltd | * 446.83
All Others | 11.94
* Rate based on facts available with adverse inferences.

Disclosure

¹² Commerce found CAIEC Trailer Master Co., Ltd. and Trailer Master CVS Inc to be cross-owned entities. See Preliminary Determination, 89 FR at 95746 n. 14.

We intend to disclose the calculations performed in this final determination to interested parties within five days of any public announcement or, if there is no public announcement, within five days of the date of publication of this notice in the Federal Register, in accordance with 19 CFR 351.224(b).

Suspension of Liquidation

As a result of our Preliminary Determination, and pursuant to sections 703(d)(1)(B) and (d)(2) of the Act, Commerce instructed U.S. Customs and Border Protection (CBP) to collect cash deposits and suspend liquidation of entries of subject merchandise entered, or withdrawn from warehouse, for consumption on or after December 3, 2024, the date of publication of the Preliminary Determination in the Federal Register. In accordance with section 703(d) of the Act, Commerce instructed CBP to discontinue the suspension of liquidation of all entries of subject merchandise entered or withdrawn from warehouse, on or after April 2, 2025, but to continue the suspension of liquidation of all entries of subject merchandise on or before April 1, 2025. If the U.S. International Trade Commission (ITC) issues a final affirmative injury determination, we will issue a countervailing duty order, reinstate the suspension of liquidation, and require a cash deposit of estimated countervailing duties for such entries of subject merchandise in the amounts indicated above, in accordance with section 706(a) of the Act. If the ITC determines that material injury, or threat of material injury, does not exist, this proceeding will be terminated, and all estimated duties deposited or securities posted as a result of the suspension of liquidation will be refunded or cancelled.

ITC Notification

In accordance with section 705(d) of the Act, we will notify the ITC of our final affirmative determination that countervailable subsidies are being provided to producers and exporters of brake drums from China. As Commerce's final determination is affirmative, in accordance with section 705(b) of the Act, the ITC will determine, within 45 days, whether the domestic industry in the United States is materially injured, or threatened with material injury, by reason of imports of brake drums from China. In addition, we are making available to the ITC all non-privileged and non-proprietary information in our files, provided the ITC confirms that it will not disclose such information, either publicly or under administrative protective order (APO), without the written consent of the Assistant Secretary for Enforcement and Compliance.

Administrative Protective Order

This notice will serve as the final reminder to parties subject to an APO of their responsibility concerning the return or destruction of proprietary information disclosed under APO in accordance with 19 CFR 351.305(a)(3). Timely written notification of the return or destruction of APO materials or conversion to judicial protective order is hereby requested. Failure to comply with the regulations and the terms of an APO is a violation which is subject to sanction.

Notification to Interested Parties

This determination is issued and published pursuant to sections 705(d) and 777(i) of the Act, and 19 CFR 351.210(c).

Dated: June 13, 2025.
Steven Presing,
Acting Deputy Assistant Secretary for Policy and Negotiations.

Appendix I

Scope of the Investigation

The merchandise covered by this investigation is certain brake drums made of gray cast iron, whether finished or unfinished, with an actual or nominal inside diameter of 14.75 inches or more but not over 16.6 inches, weighing more than 50 pounds. Unfinished brake drums are those which have undergone some turning or machining but are not ready for installation. Subject brake drums are included within the scope whether imported individually or with non-subject merchandise (for example, a hub), whether assembled or unassembled, or if joined with non-subject merchandise. When a subject drum is imported together with non-subject merchandise, such as, but not limited to, a drum-hub assembly, only the subject drum is covered by the scope.

Subject merchandise also includes finished and unfinished brake drums that are further processed in a third country or in the United States, including, but not limited to, assembly or any other processing that would not otherwise remove the merchandise from the scope of this investigation if performed in the country of manufacture of the subject brake drums. The inclusion, attachment, joining, or assembly of non-subject merchandise with subject drums either in the country of manufacture of the subject drum or in a third country does not remove the subject drum from the scope. Specifically excluded is merchandise covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The scope also excludes composite brake drums that contain more than 38 percent steel by weight.

The merchandise covered by this investigation is classifiable under Harmonized Tariff Schedule of the United States (HTSUS) subheading 8708.30.5020. The merchandise covered by this investigation may be classifiable under HTSUS subheading 8708.30.5090 when entered as part of an assembly. Subject merchandise may also enter under HTSUS subheading 8716.90.5060, 8704.10, 8704.23.01, 8704.32.01, 8704.43.00, 8704.52.00, 8704.60.00, 8708.50.61, 8708.50.6500, 8716.90.5010, 8716.31.00, 8716.39.00, 8716.40.00. Although the HTSUS subheadings are provided for convenience and customs purposes, the written description of the merchandise covered by this investigation is dispositive.

Appendix II

List of Topics Discussed in the Issues and Decision Memorandum

I. Summary

II. Background

III. Use of Facts Otherwise Available and Application of Adverse Inferences

IV. Changes Since the Preliminary Determination

V. Subsidies Valuation

VI. Analysis of Programs

VII. Discussion of the Issues

Comment 1: Whether Commerce Should Revise its Countervailability Determination or Benefit Calculation for ConMet's Receipt of Land Compensation Funds

Comment 2: Whether Bank Acceptance Notes (BANs) are Countervailable

Comment 3: Whether Commerce Should Modify the Sales Denominator Used to Calculate Shandong ConMet's Ad Valorem Subsidy

Comment 4: Whether Commerce Should Decline to Find Non-Use and Apply an Adverse Facts Available (AFA) Rate for the Export Buyer's Credit Program (EBCP)

Comment 5: Whether Commerce Should Revise the Benefit Calculations for the Provision of Inputs for Less than Adequate Remuneration (LTAR) to Exclude ConMet's “Theoretical” Delivery Charges

Comment 6: Whether the Provision of Electricity for LTAR Program is Specific

Comment 7: Whether the Input Producers/Suppliers are Government Authorities

VIII. Recommendation

[FR Doc. 2025-11229 Filed 6-17-25; 8:45 am]

BILLING CODE 3510-DS-P